DEPARTMENT OF TRANSPORTATION

Office of the Secretary

Aviation Proceedings, Agreements Filed Between February 3, and February 21, 2003

The following Agreements were filed with the Department of Transportation under the provisions of 49 U.S.C. 412 and 414. Answers may be filed within 21 days after the filing of the application.

Applications filed during week ending: February 7, 2003.

Docket Number: OST-2003-14440.

Date Filed: February 3, 2003.

Parties: Members of the International Air Transport Association.

Subject

PTC3 0608 dated 3 January 2003

TC3 Within South Asian Subcontinent Resolutions r1-r10

PTC3 0609 dated 3 January 2003

TC3 Within South East Asia Resolutions r11-r23 (except between Malaysia and Guam)

PTC3 0610 dated 3 January 2003 r24-r29

TC3 Within South West Pacific Resolutions

PTC 0611 dated 3 January 2003 r-30-r37

TC3 Between South East Asia and South Asian Subcontinent Resolutions

PTC3 0612 dated 3 January 2003 r38-r44

TC3 between South Asian Subcontinent and South West Pacific Resolutions

PTC3 0613 dated 3 January 2003 r45-r51

TC3 between South East Asia and South West Pacific Resolutions except between Malaysia and American Samoa

PTC3 0614 dated 3 January 2003 r52-r63

TC3 between Japan and Korea Resolutions

PTC3 0622 dated 17 January 2003 (Technical Correction)

PTC3 0615 dated 3 January 2003 r64-r78

TC3 between Japan, Korea and South Asian Subcontinent Resolutions

PTC3 0616 dated 3 January 2003 r79-r95

TC3 between Japan, Korea and South East Asia Resolutions except between Korea (Rep.of) and Guam, Northern Mariana Islands

PTC3 0617 dated 3 January 2003 r-96-r157

TC3 between Japan, Korea and South West Pacific Resolutions except between Korea (Rep.of) and American Samoa

Minutes—PTC3 0623 dated 24 January 2003

Tables—PTC3Fares 0196, 0197, 0198, 0199, 0200, 0201, 0202, 0203, 0204 and 0205 all dated 10 January 2003

Intended effective date: 1 April 2003

Docket Number: OST-2003-14478.

Date Filed: February 7, 2003.

Parties: Members of the International Air Transport Association.

Subject

PTC3 0626 dated 7 February 2003

Mail Vote 264—Resolution 010n,

TC3 Special Passenger Amending Resolution from Papua New Guinea

Intended effective date: 20 February 2003

Docket Number: OST-2003-14480.

Date Filed: February 7, 2003.

Parties: Members of the International Air Transport Association.

Subject

CTC COMP 0396 dated 21 June 2002

Composite Cargo Resolution 502 R1

Correction—CTC COMP 0404 dated 9 July 2002

Minutes—CTC COMP 0400 dated 25 June 2002 Airline Economic Justifications: American, Delta, FedEx and United

Intended effective date: 1 October 2002

Docket Number: OST-2003-14481.

Date Filed: February 7, 2003.

Parties: Members of the International Air Transport Association.

Subject

CTC COMP 0408 dated 2 August 2002

Composite Resolutions r1-r27

Minutes-CTC COMP 0400 dated 25 June 2002

Airline Economic Justifications:

American, Delta, FedEx and United

Tables-CTC COMP Rates 0197 dated 13 August 2002

CTC COMP Rates 0198 dated 23 August 2002

Intended effective date 1 October 2002

Docket Number: OST-2003-14482.

Date Filed: February 7, 2003.

Parties: Members of the International Air Transport Association.

Subject:

CTC COMP 0410 dated 2 August 2002

Worldwide Area Resolutions (excluding changes to rates) except Alliance Countries r1-r7,

Minutes—CTC COMP 0400 dated 25 June 2002

Tables—CTC2 AFR Rates 0013 dated 13 August 2002

CTC2 ME Rates 0024 dated 13 August 2002

CTC2 EUR-AFR Rates 0022 dated 13 August 2002

CTC2 EUR-ME Rates 0032 dated 13 August 2002

Intended effective date: 1 October 2002

Applications filed during week ending: February 14, 2003.

Docket Number: OST-2003-14485.

Date Filed: February 10, 2003.

Parties: Members of the International Air Transport Association.

Subject

PTC2 EUR-ME 0152 dated 28 January 2003

TC2 Europe-Middle East Expedited Resolution 001a

Intended effective date: 1 April 2003

Docket Number: OST-2003-14486.

Date Filed: February 10, 2003.

Parties: Members of the International Air Transport Association.

Subject

CTC COMP 0412 dated 2 August 2002

Worldwide Area Resolutions (changes to rates) to/from USA/US Territories except Alliance Countries r1-r5

Correction—CTC COMP 0418 dated 20 August 2002

Minutes—CTC COMP 0400 dated 25 June 2002

Airline Economic Justifications:

American, Delta FedEx and United

Tables—CTC1 Rates 0016 dated 16 August 2002

CTC3 Rates 0019 dated 16 August 2002

CTC12 NATL-TC2 Rates 0067 dated 16 August 2002

CTC23 AFR-TC3 Rates 0021 dated 16 August 2002

CTC31 N/C Rates 0015 dated 20 August 2002

CTC31 S Rates 0012 dated 20 August 2002

CTC123 Rates 0014 dated 20 August 2002

Intended effective date: 1 October 2002

Docket Number: OST-2003-14490.

Date Filed: February 10, 2003.

Parties: Members of the International Air Transport Association.

Subject

CTC COMP 0413 dated 2 August 2002

Worldwide Area Resolutions—Alliance Countries r1-r8

Minutes—CTC COMP 0400 dated 25 June 2002

Airline Economic Justifications:

American, Delta, FedEx and United

Tables—CTC1 Rates 0016 dated 16 August 2002

CTC3 Rates 0019 dated 16 August 2002

CTC12 NATL-TC2 Rates 0067 dated 16 August 2002

CTC23 AFR-TC3 Rates 0021 dated 16 August 2002

CTC31 N/C Rates 0015 dated 20 August 2002

CTC31 S Rates 0012 dated 20 August 2002

CTC123 Rates 0014 dated 20 August 2002

Intended effective date: 1 October 2002

Applications filed during week ending: February 21, 2003.

Docket Number: OST-2003-14540.

Date Filed: February 19, 2003.

Parties: Members of the International Air Transport Association.

Subject

PTC12 NMS-ME 0183 dated 11 February 2003

North Atlantic-Middle East Expedited Resolutions 002as, 015v r1-r2

PTC12 NMS-ME 0184 dated 11 February 2003 r3

North Atlantic-Middle East Expedited Resolution 002bo

Intended effective dates: 15 March and 31 March 2003

Docket Number: OST-2003-14541.

Date Filed: February 19, 2003.

Parties: Members of the International Air Transport Association.

Subject

PTC1 0251 dated 14 February 2003

Mail Vote 265—Resolution 010o

TC1 Special Passenger Amending Resolution—From Uruguay

Intended effective date: 25 February 2003

Docket Number: OST-2003-14562.

Date Filed: February 20, 2003.

Parties: Members of the International Air Transport Association.

Subject

PTC12 NMS-ME 0188 dated 21 February 2003

Mail Vote 266—TC12 Mid/South Atlantic-Middle East

Special Passenger Amending Resolution 010p and Resolution 015v Add-ons (except in USA)

Intended effective date: 15 March and 31 March 2003

Docket Number: OST-2003-14568.

Date Filed: February 21, 2003.

Parties: Members of the International Air Transport Association.

Subject

PAC/Reso/418 dated January 17, 2003—Mail Vote A108

Resos 800t (r1) and 814 (r2)

PAC/Reso/419 dated January 17, 2003—Mail Vote A109

Reso 850 (r3)

Intended effective date: expedited March 1, 2003.

Dorothy Y. Beard,
Chief, Docket Operations & Media Management, Federal Register Liaison.

[FR Doc. 03-4917 Filed 2-28-03; 8:45 am]

BILLING CODE 4910-62-P